DEPARTMENT OF HOUSING AND URBAN DEVELOPMENT

[Docket No. FR-6553-C-02]

Fair Market Rents for the Housing Choice Voucher Program, Moderate Rehabilitation Single Room Occupancy Program, and Other Programs Fiscal Year 2026; Extension of Comment Period and Correction

AGENCY: Office of the Assistant Secretary for Policy Development and Research, U.S. Department of Housing and Urban Development (HUD).

ACTION: Notice of Fiscal Year (FY) 2026 Fair Market Rents (FMRs); extension of comment period; correction.

SUMMARY: The Department of the Housing and Urban Development (HUD) published a notice in the Federal Register of August 22, 2025 (HUD's FY26 notice), that describes the methods used to calculate the FY 2026 FMRs and lists the procedures for Public Housing Agencies (PHAs) to request reevaluations of their FMRs as required by the Housing Opportunity Through Modernization Act of 2016 (HOTMA). HUD's annual notices typically permit public comment through October 1 of a given year, even if they are published earlier than thirty days prior to that date. HUD's FY26 notice provided an opportunity for public comment but only through September 22, 2025. This notice corrects this error and extends the public comment period through October 1, 2025. This notice also corrects HUD's omission of the Urban Honolulu, HI Metropolitan Statistical Area (Urban Honolulu MSA) from the list of areas and counties in HUD's FY26 notice that have FMRs based on local ad hoc surveys collected prior to 2024, and provides that HUD has updated and corrected the values for FMRs for the Urban Honolulu MSA on HUD's Fair Market Rent Documentation System web page.

DATES: The public comment period for the notice published in the Federal Register on August 22, 2025 (90 FR 41096), is extended from September 22, 2025, to October 1, 2025.

FOR FURTHER INFORMATION CONTACT: Adam Bibler, Office of Policy Development and Research, Room 8208, U.S. Department of Housing and Urban Development, 451 Seventh Street SW, Washington, DC 20410; telephone (202) 402-6057 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: On August 22, 2025, HUD published in the Federal Register its annual notice of FMRs for FY26. 90 FR 41096 (HUD's FY26 notice). This notice provided a comment due date of September 22, 2025. However, HUD's annual FMR notices provide for a due date of October 1, 2025, even if the annual notice is published earlier than thirty days prior to October 1, 2025. 89 FR 66127, 88 FR 60223. This notice corrects the comment due date in HUD's FY26 notice from September 22, 2025, to October 1, 2025.

This notice also corrects an inadvertent omission of the Urban Honolulu MSA from the list in section III.D. of HUD's FY26 notice of Metropolitan Statistical Areas (MSAs), HUD Metro FMR Areas, or non-metropolitan counties that have FMRs based on local ad hoc surveys collected prior to 2024. At the time HUD published its FY26 notice, the FMRs for the Urban Honolulu MSA were based only on the American Community Survey (ACS) data for the area. The FMRs for the Urban Honolulu MSA should be based on a public housing agency (PHA)-sponsored survey, because this data was as-of August 2023, and is therefore more recent than the ACS. Therefore, this notice corrects the sentence in the FY26 notice that reads, “(3) HUD uses survey data from 2023 to calculate the FMRs for Santa Cruz-Watsonville, CA MSA.” to read, “(3) HUD uses survey data from 2023 to calculate the FMRs for Santa Cruz-Watsonville, CA MSA and for the Urban Honolulu, HI MSA.”

Additionally, at the time HUD published its FY26 notice, HUD's Fair Market Rent Documentation System, at https://www.huduser.gov/portal/datasets/fmr.html, provided incorrect values for FMRs in the Urban Honolulu MSA. The correct FMRs for the Urban Honolulu MSA are based on the PHA-sponsored survey, as discussed above. The correct FMRs are as follows:

| 0-Bedroom (efficiency) FMR | 1-Bedroom FMR | 2-Bedroom FMR | 3-Bedroom FMR | 4-Bedroom FMR
Urban Honolulu, HI MSA | $1,877 | $2,016 | $2,642 | $3,674 | $4,432

As part of this correction, HUD has issued revised FMRs for the Urban Honolulu, HI MSA on https://www.huduser.gov/portal/datasets/fmr.html.

Correction

In the Federal Register of August 22, 2025, in FR Doc 2025-16060, on page 41096, in the second column, and on page 41098, in the third column, the following corrections are made:

1. On page 41096, in the second column, in the Dates caption, revise the Dates section to read as follows:

Dates:

Comments are due by: October 1, 2025.

Effective Date: October 1, 2025, unless HUD receives a valid request for reevaluation of specific area FMRs as described below.

2. On page 41098, in the third column, revise the sentence “(3) HUD uses survey data from 2023 to calculate the FMRs for Santa Cruz-Watsonville, CA MSA.” to read as follows:

(3) HUD uses survey data from 2023 to calculate the FMRs for Santa Cruz-Watsonville, CA MSA and for the Urban Honolulu, HI MSA.

Amanda Wahlig,
Acting Associate General Counsel, Office of Legislation and Regulations.

[FR Doc. 2025-18221 Filed 9-18-25; 8:45 am]

BILLING CODE 4210-67-P